DEPARTMENT OF ENERGY

Federal Energy Regulatory Commission

[Project No. 2694-002]

Nantahala Power and Light, a Division of Duke Engineering Company; Notice of Availability of Environmental Assessment

July 27, 2001.

In accordance with the National Environmental Policy Act of 1969 and the Federal Energy Regulatory Commission's (Commission) regulations, 18 CFR Part 380 (Order No. 486, 52 FR 47897), the Office of Energy Projects has reviewed the application for a new license for the existing and operating Queens Creek Hydroelectric Project FERC No. 2694-002, located on Queens Creek, in Macon County, North Carolina and has prepared an Environmental Assessment (EA) for the project.

Copies of the EA are available for review in the Public Reference Branch, Room 2-A, of the Commission's offices at 888 First Street, NE., Washington, DC 20426. The EA may also be viewed on the web at http://www.ferc.gov using the “RIMS” link, select “Docket#” and follow the instructions (call 202-208-2222 for assistance).

Any comments should be filed within 30 days from the date of this notice and should be addressed to David P. Boergers, Secretary, Federal Energy Regulatory Commission, 888 First Street, NE., Room 1-A, Washington, DC 20426. Please affix “Queens Creek Hydroelectric Project No. 2694-002” to the top page of all comments. Comments, protests and interventions may be filed electronically via the Internet in lieu of paper. See, 18 CFR 385.2001(a)(1)(iii) and the instructions on the Commission's web site under the “e-Filing” link. For further information, contact Kevin Whalen at (202) 219-2790.

David P. Boergers,
Secretary.

[FR Doc. 01-19273 Filed 8-1-01; 8:45 am]

BILLING CODE 6717-01-P